NATIONAL SCIENCE FOUNDATION

RIN 3145-AA58

Notice on Penalty Inflation Adjustments for Civil Monetary Penalties

AGENCY: National Science Foundation.

ACTION: Notice announcing updated penalty inflation adjustments for civil monetary penalties for 2024.

SUMMARY: The National Science Foundation (NSF or Foundation) is providing notice of its adjusted maximum civil monetary penalties, effective January 15, 2024. These adjustments are required by the Federal Civil Penalties Inflation Adjustment Act Improvements Act of 2015.

FOR FURTHER INFORMATION CONTACT: Bijan Gilanshah, Assistant General Counsel, Office of the General Counsel, National Science Foundation, 2415 Eisenhower Avenue, Alexandria, VA 22314. Telephone: 703-292-5055.

SUPPLEMENTARY INFORMATION: On June 27, 2016, NSF published an interim final rule amending its regulations to adjust, for inflation, the maximum civil monetary penalties that may be imposed for violations of the Antarctic Conservation Act of 1978 (ACA), as amended, 16 U.S.C. 2401 et seq., and the Program Fraud Civil Remedies Act of 1986 (PFCRA), 31 U.S.C. 3801, et seq. These adjustments are required by the 2015 Act. The 2015 Act also requires agencies to make subsequent annual adjustments for inflation. Pursuant to OMB guidance dated December 19, 2023, the cost-of-living adjustment multiplier for 2024 is 1.03241. Accordingly, the 2024 annual inflation adjustments for the maximum penalties under the ACA are $21,022 ($20,362 × 1.03241) for violations and $35,574 ($34,457 × 1.03241) for knowing violations of the ACA. Finally, the 2024 annual inflation adjustment for the maximum penalty for violations under PFCRA is $13,946 ($13,508 × 1.03241).

Dated: December 20, 2023.
Suzanne H. Plimpton,
Reports Clearance Officer, National Science Foundation.

[FR Doc. 2023-28433 Filed 12-26-23; 8:45 am]

BILLING CODE 7555-01-P